COMMODITY FUTURES TRADING COMMISSION

Sunshine Act Meetings

TIME AND DATE: 10:00 a.m. EDT, Tuesday, October 29, 2024.

PLACE: CFTC Headquarters Conference Center, Three Lafayette Centre, 1155 21st Street NW, Washington, DC.

STATUS: Open.

MATTERS TO BE CONSIDERED: The Commodity Futures Trading Commission (“Commission” or “CFTC”) will hold this meeting to consider the following matters:

• Final Rule—Operational Resilience Framework for Futures Commission Merchants, Swap Dealers, and Major Swap Participants;

• Final Rule—Investment of Customer Funds by Futures Commission Merchants and Derivatives Clearing Organizations;

• Final Rule—Derivatives Clearing Organizations Recovery and Orderly Wind-down Plans; Information for Resolution Planning;

• Commission Fall 2024 Unified Agenda Submission; and

• CFTC Executive and Supervisor Compensation Structures.

The agenda for this meeting will be available to the public and posted on the Commission's website at https://www.cftc.gov. Members of the public are free to attend the meeting in person, or have the option to listen by phone or view a live stream. Instructions for listening to the meeting by phone and connecting to the live video stream will be posted on the Commission's website.

In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: October 22, 2024.
Christopher Kirkpatrick,
Secretary of the Commission.

[FR Doc. 2024-24959 Filed 10-23-24; 11:15 am]

BILLING CODE 6351-01-P